DEPARTMENT OF LABOR

Employment and Training Administration

Open Government Initiative: Implementation of the iCERT Labor Certification Registry for the H-1B, H-1B1, E-3, H-2A, H-2B and Permanent Labor Certification Employment-Based Immigration Programs

AGENCY: Employment and Training Administration, Department of Labor.

ACTION: Notice.

SUMMARY: The Employment and Training Administration (ETA) is announcing a new initiative to make available to the general public appropriately redacted copies of H-1B, H-1B1, E-3, H-2A, H-2B and permanent labor certification documents through its iCERT Visa Portal System. This new online tool, formally called the iCERT Labor Certification Registry (LCR), is a component of the Department of Labor's Open Government initiative and provides an additional level of transparency for the labor certification decisions issued by the ETA Office of Foreign Labor Certification (OFLC). The iCERT LCR provides searchable access to copies of labor certification documents and labor condition application documents as well as the latest quarterly and annual case file datasets through a single location. Public access to the iCERT LCR will be available at http://icert.doleta.gov beginning July 1, 2013.

DATES: Effective July 1, 2013.

FOR FURTHER INFORMATION CONTACT: For further information, contact William L. Carlson, Ph.D., Administrator, Office of Foreign Labor Certification, ETA, U.S. Department of Labor, 200 Constitution Avenue NW., Room C-4312, Washington, DC 20210; Telephone (202) 693-3010 (this is not a toll-free number). Individuals with hearing or speech impairments may access the telephone number above via TTY by calling the toll-free Federal Information Relay Service at 1-800-877-8339.

For technical issues related to the Department's implementation of the labor certification registry, please contact the iCERT Visa Portal System Team, Office of Foreign Labor Certification (OFLC) by email at oflc.portal@dol.gov.

SUPPLEMENTARY INFORMATION:

I. Background

The Immigration and Nationality Act (INA) assigns specific responsibilities to the U.S. Secretary of Labor for the administration of certain employment-based immigration programs that require either a labor certification or, in the case of an H-1B, H-1B1, or E-3 visa, a labor condition application (LCA). These statutory responsibilities include, in the case of labor certifications, determining whether there are able, willing, and qualified U.S. workers for a position for which certification is requested and whether there would be any adverse impact on similarly employed U.S. workers should labor certification be granted. Statutory and regulatory provisions require all employers seeking a labor certification for either permanent or temporary nonimmigrant labor to first apply to the Secretary of Labor for certification or for an LCA. The Secretary has delegated the responsibilities for the administration of these programs to the Employment and Training Administration's (ETA) Office of Foreign Labor Certification (OFLC). Foreign labor certification programs have as a primary responsibility the review of employer-filed applications requesting the Secretary of Labor's certification to ensure that the hiring of a foreign worker will not adversely impact the wages and working conditions of U.S. workers, and that no qualified U.S. workers are willing or available to fill a given vacancy.

As a component of the Department of Labor's (the Department) Open Government initiative, the OFLC is implementing a new Labor Certification Registry (LCR) through its iCERT Visa Portal System that provides the general public access to appropriately redacted copies of labor certification documents issued to employers in the H-1B, H-1B1, E-3, H-2A, H-2B and permanent labor certification programs. The iCERT LCR provides the public with a single, easy to search, location to the OFLC's labor certification and LCA documents as well as the office's latest quarterly and annual case disclosure data. Public release of these documents and data provides an additional level of transparency while respecting any personally identifiable information. OFLC has taken steps to ensure that private, sensitive, or legally protected information will be redacted, as appropriate.

This initiative is in compliance with the Privacy Act, the Trade Secrets Act and the Confidential Information Protection and Statistical Efficiency Act. We have taken steps to ensure that appropriate information will be redacted in connection with the Department's responsibilities, or potential responsibilities, pursuant to these statutes. This information will change depending upon the form, but will include data such as the Federal Employer Identification Number (FEIN) of the employer, revenue reported by the employer, and the name, address and class of admission of the foreign worker.

Prior to this public database becoming available, access to OFLC labor certification and LCA documents typically required submitting a Freedom of Information Act (FOIA) request directly to the Department and waiting for a response. For the first time, the iCERT LCR will provide the general public with real-time access to appropriately redacted copies of current and historical labor certification and LCA documents that are searchable across a series of common data points. OFLC anticipates that public access to labor certification and LCA documents through the iCERT LCR will significantly reduce the need for individuals to request and obtain such documents through the Department's FOIA process.

II. Labor Certification Registry Availability and Functional Components

Public access to the LCR will be available through the iCERT Visa Portal System at http://icert.doleta.gov. The public will not be required to create an iCERT system account in order to access documents and information contained on the registry. All documents placed on the LCR (e.g., ETA 9142, ETA 9035E) will be accessible in either Adobe Portable Document Format (PDF) or HyperText Markup Language (HTML) format and contain certain information from official labor certifications and LCAs issued by the OFLC. The iCERT LCR will not, however, disclose data or information subject to privacy, security, or privilege limitations.

The functional components of the iCERT LCR are built upon and fully integrated with the iCERT H-2A Public Job Registry, which was released on July 1, 2010, as part of the Department's implementation of the H-2A 2010 Final Rule and will provide the public with the following functional features:

• An interactive map of U.S. states and territories displaying all labor certification and LCA documents posted within the last 30 calendar days;

• A “quick search” feature from the main home page allowing users to execute basic queries along a common set of data points including the ETA case number, visa classification, employer name, job title, industry, state or territory, zip code radius, and posting date range;

• An advanced search feature allowing users to conduct more detailed searches based on occupations, industries, education and training, range of wage offers, worker positions requested, and dates of employment;

• Easy-to-understand search results displayed in a table format with sortable column headings, select data points to further filter the search results, and quick links to view or download the document in either redacted Adobe PDF or HTML format;

• Access to OFLC's latest program annual and quarterly performance reports and case file datasets in easily accessible formats for performing more in-depth longitudinal statistical research and analysis; and

• Access to important social media platforms for users to stay connected to the Department's Open Government initiative and provide meaningful feedback.

Initially, the iCERT LCR will provide the public with access to appropriately redacted copies of H-1B, H-1B1, E-3, H-2A, H-2B and permanent labor certification documents issued by the OFLC on or after April 15, 2009; the date on which the iCERT Visa Portal System was implemented. Beginning July 1, 2013, the iCERT LCR will post for public access all labor certification documents no later than 2 business days after the official decision is rendered.

III. Help Desk

Those members of the public needing technical assistance accessing or searching the Labor Certification Registry should direct requests to the iCERT System Team, OFLC, at oflc.portal@dol.gov, and include “Labor Certification Registry—Technical Assistance” in the subject line of the email.

Signed in Washington, DC, this 14th day of January 2013.
Jane Oates,
Assistant Secretary, Employment and Training Administration.

[FR Doc. 2013-01406 Filed 1-23-13; 8:45 am]

BILLING CODE 4510-FP-P